DEPARTMENT OF TRANSPORTATION

Federal Aviation Administration

[Docket No. 2022-0176]

Agency Information Collection Activities: Requests for Comments; Clearance of Renewal Approval of Information Collection 2120-0768, Part 107 Authorizations and Waivers Under 14 CFR Part 107

AGENCY: Federal Aviation Administration (FAA), DOT.

ACTION: Notice and request for comments.

SUMMARY: In accordance with the Paperwork Reduction Act of 1995, FAA invites public comments about our intention to request the Office of Management and Budget (OMB) approval to renew information collection 2120-0768.

DATES: Written comments should be submitted by May 22, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Victoria Gallagher by email at: Victoria.Gallagher@faa.gov; phone: 202-674-3826.

SUPPLEMENTARY INFORMATION: The Federal Register Notice with a 60-day comment period soliciting comments on the following collection of information was published on January 6, 2023 (88 FR 91105). The FAA proposes renewal of the collection of information related to requests made under 14 CFR part 107 to operate small Unmanned Aircraft Systems (UAS) in controlled airspace. FAA will use the collected information to make determinations whether to authorize or deny the requested operation of UAS in controlled airspace. The proposed information collection is necessary to issue such authorizations or denials consistent with the FAA's mandate to ensure safe and efficient use of national airspace. The FAA received no comments to the 60-day notice.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0768.

Title: Part 107 Authorizations and Waivers under 14 CFR part 107.

Form Numbers: There are no forms associated with this collection.

Type of Review: Renewal of existing information collection.

Background: There has been an increased number of operations of small Unmanned Aircraft Systems in the National Air Space (NAS) in recent years and regulations and statutes have been enacted to establish the use of small UAS in the NAS. Included in these is 14 CFR part 107. Section 107.41 states that “no person may operate a small unmanned aircraft in Class B, Class C, or Class D airspace or within the lateral boundaries of the surface areas of Class E airspace designated for an airport unless that person has prior authorization from Air Traffic Control (ATC).” Such authorization may be obtained in the form of either an airspace authorization issued by the FAA or a waiver of the authorization requirements of 14 CFR 107.41 (known as an airspace waiver).

In order to process authorization and airspace waiver requests, the FAA requires the operator's name, the operator's contact information, and information related to the date, place, and time of the requested small UAS operation. This information is necessary for the FAA to meet its statutory mandate of maintaining a safe and efficient national airspace. See 49 U.S.C. 40103, 44701, and 44807. The FAA will use the requested information to determine if the proposed UAS operation can be conducted safely.

The FAA proposes to use the Low Altitude Authorization and Notification Capability (LAANC) and a web portal to process authorization requests from the public to conduct part 107 flight operations pursuant to Section 107.41. The FAA also proposes to use the web portal to process requests from the public to conduct Part 107 flight operations that requires an airspace waiver.

Respondents: Small UAS operators seeking to conduct flight operations under 14 CFR part 107 within controlled airspace or flight operations that require waiver from the provisions of 14 CFR 107.41. Between 2023-2026, the FAA estimates that it will receive a total of 1,477,965 requests for airspace authorizations and 0 requests for airspace waivers.

Frequency: The requested information will need to be provided each time a respondent requests an airspace authorization to operate a small UAS under 14 CFR part 107 in controlled airspace and each time a respondent requests a waiver from the provisions of 14 CFR 107.41 to operate a small UAS in controlled airspace.

Estimated Average Burden per Response: The FAA estimates the respondents using LAANC will take five (5) minutes per airspace authorization request and those using the web portal will take thirty (30) minutes per request. For those making airspace waiver requests through the web portal, the FAA estimates it takes 30 minutes per request.

Estimated Total Annual Burden: For airspace authorizations, the FAA estimates that the average annual burden will be 61,582 burden hours. This includes 36,949 burden hours for 443,389 LAANC respondents and 24,633 burden hours for 49,266 web portal respondents.

Issued in Washington, DC, on April 17, 2023.
Victoria Gallagher,
UAS LAANC Program Manager.

[FR Doc. 2023-08357 Filed 4-19-23; 8:45 am]

BILLING CODE 4910-13-P